DEPARTMENT OF HOMELAND SECURITY

Federal Emergency Management Agency

[Docket ID FEMA-2023-0002; Internal Agency Docket No. FEMA-B-2383]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Arizona:
Maricopa | City of Phoenix, (22-09-1756P). | The Honorable Kate Gallego, Mayor, City of Phoenix, 200 West Washington Street, Phoenix, AZ 85003. | Street Transportation Department, 200 West Washington Street, 5th Floor, Phoenix, AZ 85003. | https://msc.fema.gov/portal/advanceSearch. | Feb. 2, 2024 | 040051
Pima | Unincorporated Areas of Pima County, (23-09-0654P). | The Honorable Adelita S. Grijalva, Chair, Board of Supervisors, Pima County, 33 North Stone Avenue, 11th Floor, Tucson, AZ 85701. | Pima County Flood Control District, 201 North Stone Avenue, 9th Floor, Tucson, AZ 85701. | https://msc.fema.gov/portal/advanceSearch. | Feb. 5, 2024 | 040073
Santa Cruz | City of Nogales, (23-09-0258P). | The Honorable Jorge Maldonado, Mayor, City of Nogales, 777 North Grand Avenue, Nogales, AZ 85621. | Public Works Department, 1450 North Hohokam Drive, Nogales, AZ 85621. | https://msc.fema.gov/portal/advanceSearch. | Feb. 7, 2024 | 040091
Florida:
Duval | City of Jacksonville, (23-04-0131P). | The Honorable Donna Deegan, Mayor, City of Jacksonville, City Hall at St. James Building, 117 West Duval Street, Suite 400, Jacksonville, FL 32202. | Edward Ball Building Development Services, 214 North Hogan Street, Room 2100, Jacksonville, FL 32202. | https://msc.fema.gov/portal/advanceSearch. | Feb. 8, 2024 | 120077
Volusia | City of Daytona Beach, (23-04-0482P). | The Honorable Derrick Henry, Mayor, City of Daytona Beach, City Hall, 301 South Ridgewood Avenue, Daytona Beach, FL 32114. | City Hall, 301 South Ridgewood Avenue, Daytona Beach, FL 32114. | https://msc.fema.gov/portal/advanceSearch. | Feb. 1, 2024 | 125099
Idaho:
Blaine | City of Bellevue, (23-10-0247P). | The Honorable Kathryn Goldman, Mayor, City of Bellevue, 115 East Pine Street, Bellevue, ID 83313. | City Hall, 115 East Pine Street, Bellevue, ID 83313. | https://msc.fema.gov/portal/advanceSearch. | Jan. 11, 2024 | 160021
Bonneville | Unincorporated Areas of Bonneville County, (23-10-0340P). | Roger Christensen, Chair, Bonneville County Board of Commissioners, 605 North Capital Avenue, Idaho Falls, ID 83402. | Bonneville County Courthouse, 605 North Capital Avenue, Idaho Falls, ID 83402. | https://msc.fema.gov/portal/advanceSearch. | Jan. 31, 2024 | 160027
Canyon | Unincorporated Areas of Canyon County, (22-10-0980P). | Brad Holton, Chair, Canyon County Board of Commissioners, 1115 Albany Street, Room 101, Caldwell, ID 83605. | Canyon County Administration Building, 111 North 11th Avenue, Room 101, Caldwell, ID 83605. | https://msc.fema.gov/portal/advanceSearch. | Jan. 12, 2024 | 160208
Minnesota:
Anoka | City of Andover, (23-05-1134P). | The Honorable Sheri Bukkila, Mayor, City of Andover, City Hall, 1685 Crosstown Boulevard Northwest, Andover, MN 55304. | City Hall, 1685 Crosstown Boulevard Northwest, Andover, MN 55304. | https://msc.fema.gov/portal/advanceSearch. | Jan. 29, 2024 | 270689
Mower | City of Austin, (22-05-1096P). | The Honorable Steve King, Mayor, City of Austin, City Hall, 500 4th Avenue Northeast, Austin, MN 55912. | City Hall, 500 4th Avenue Northeast, Austin, MN 55912. | https://msc.fema.gov/portal/advanceSearch. | Feb. 1, 2024 | 275228
Nevada: Douglas | Unincorporated Areas of Douglas County, (22-09-0499P). | The Honorable Mark Gardner, Chair, Board of Commissioners, Douglas County, P.O. Box 218, Minden, NV 89423. | Douglas County, Community Development, 1594 Esmeralda Avenue, Minden, NV 89423. | https://msc.fema.gov/portal/advanceSearch. | Jan. 18, 2024 | 320008
New York:
Erie | City of Tonawanda, (23-02-0651X). | The Honorable John L. White, Mayor, City of Tonawanda, 200 Niagara Street, Tonawanda, NY 14150. | City Hall, 200 Niagara Street, Tonawanda, NY 14150. | https://msc.fema.gov/portal/advanceSearch. | Mar. 13, 2024 | 360259
Erie | Town of Grand Island, (23-02-0651X). | John Whitney, P.E., Town Supervisor, Town of Grand Island, 2255 Baseline Road, 1st Floor, Grand Island, NY 14072. | Town Hall, 2255 Baseline Road, Grand Island, NY 14072. | https://msc.fema.gov/portal/advanceSearch. | Mar. 13, 2024 | 360242
Onondaga | Town of Manlius, (22-02-0141P). | Edmond J. Theobald, Supervisor, Town of Manlius, 301 Brooklea Drive, Fayetteville, NY 13066. | Village Centre, One Arkie Albanese Avenue, Manlius, NY 13104. | https://msc.fema.gov/portal/advanceSearch. | Mar. 27, 2024 | 360584
Onondaga | Village of Fayetteville, (22-02-0141P). | The Honorable Mark Olson, Mayor, Village of Fayetteville, 425 East Genesee Street, Fayetteville, NY 13066. | Village Hall, 425 East Genesee Street, Fayetteville, NY 13066. | https://msc.fema.gov/portal/advanceSearch. | Mar. 27, 2024 | 360578
Suffolk | Town of Southold, (23-02-0178P). | Scott A. Russell, Supervisor, Town of Southold, 53095 Main Road, Southold, NY 11971. | Town Hall, 53095 Route 25, Southold, NY 11971. | https://msc.fema.gov/portal/advanceSearch. | Feb. 8, 2024 | 360813
Ohio:
Summit | City of Akron, (23-05-0885P). | The Honorable Dan Horrigan, Mayor, City of Akron, 166 South High Street, Suite 200, Akron, OH 44308. | Engineering Department, 576 West Park Avenue, Barberton, OH 44236. | https://msc.fema.gov/portal/advanceSearch. | Jan. 17, 2024 | 390523
Summit | City of Barberton, (23-05-0885P). | The Honorable William B. Judge, Mayor, City of Barberton, 576 West Park Avenue, Barberton, OH 44203. | Engineering Department, 576 West Park Avenue, Barberton, OH 44236. | https://msc.fema.gov/portal/advanceSearch. | Jan. 17, 2024 | 390524
Oregon:
Yamhill | City of Yamhill, (22-10-1006P). | The Honorable Yvette Potter, Mayor, City of Yamhill, 205 South Maple, Yamhill, OR 97148. | City Hall, 205 South Maple Street, Yamhill, OR 97148. | https://msc.fema.gov/portal/advanceSearch. | Jan. 3, 2024 | 410259
Yamhill | Unincorporated Areas of Yamhill County, (22-10-1006P). | Lindsay Berschauer, Chair, Yamhill County Board of Commissioners, 535 Northeast 5th Street, McMinnville, OR 97128. | Yamhill County, Surveyor's Office, 2060 Lafayette Avenue, McMinnville, OR 97128. | https://msc.fema.gov/portal/advanceSearch. | Jan. 3, 2024 | 410249
Pennsylvania: Chester | Borough of Phoenixville, (22-03-1007P). | The Honorable Peter Urscheler, Mayor, Borough of Phoenixville, 351 Bridge Street, 2nd Floor, Phoenixville, PA 19460. | Borough Hall, 351 Bridge Street, 2nd Floor, Phoenixville, PA 19460. | https://msc.fema.gov/portal/advanceSearch. | Jan. 29, 2024 | 420287
Texas: Collin | Unincorporated Areas of Collin County, (23-06-0707P). | The Honorable Chris Hill, County Judge Precinct 3, Collin County Administration Building, 2300 Bloomdale Road, Suite 4192, McKinney, TX 75071. | Collin County Engineering Department, 4690 Community Avenue, Suite 200, McKinney, TX 75071. | https://msc.fema.gov/portal/advanceSearch. | Jan. 16, 2024 | 480130
Washington: Spokane | Unincorporated Areas of Spokane County, (23-10-0428P). | Mary Kuney, Chair, Spokane County Board of Commissioners, 1116 West Broadway Avenue, Spokane County, WA 99260. | Spokane County Public Works Building, 1026 West Broadway Avenue, Spokane, WA 99260. | https://msc.fema.gov/portal/advanceSearch. | Feb. 7, 2024 | 530174

[FR Doc. 2023-24334 Filed 11-2-23; 8:45 am]

BILLING CODE 9119-12-P